DEPARTMENT OF JUSTICE

Drug Enforcement Administration

21 CFR Part 1310

[DEA-222C]

RIN 1117-AA64

Chemical Mixtures Containing Gamma-butyrolactone

AGENCY: Drug Enforcement Administration (DEA), Justice.

ACTION: Advance notice of proposed rulemaking; correction.

SUMMARY: On July 19, 2002, the Drug Enforcement Administration (DEA) published an Advance Notice of Proposed rulemaking in the Federal Register requesting information regarding chemical mixtures containing the List I chemical gamma-butyrolactone (GBL) (67 FR 47493). This document contained an inaccurate U.S. Code citation. This document corrects this error.

FOR FURTHER INFORMATION CONTACT: Frank L. Sapienza, , Chief, Drug and Chemical Evaluation Section, Office of Diversion Control, Drug Enforcement Administration, Washington, DC 20537, Telephone (202) 307-7183.

SUPPLEMENTARY INFORMATION: On July 19, 2002, the Drug Enforcement Administration (DEA) published an Advance Notice of proposed Rulemaking (ANPRM) in the Federal Register regarding chemical mixtures containing the List I chemical gamma-butyrolactone. Within this ANPRM, on page 47493, in the second column, five lines from the bottom, in the sentence that reads: “Until regulations which delineate criteria and procedures for exempting specific GBL-containing chemical mixtures are finalized, according to 21 U.S.C. 802(39)(4)(v), DEA has treated GBL-containing chemical mixtures as being exempt from the chemical regulatory requirements of the CSA.”, DEA inadvertently miscited the U.S. Code citation. The sentence should read: “Until regulations which delineate criteria and procedures for exempting specific GBL-containing chemical mixtures are finalized, according to 21 U.S.C. 802(39)(A)(v), DEA has treated GBL-containing chemical mixtures as being exempt from the chemical regulatory requirements of the CSA.” This document corrects this citation.

Dated: August 21, 2002.
Laura M. Nagel,
Deputy Assistant Administrator, Office of Diversion Control.

[FR Doc. 02-22555 Filed 9-4-02; 8:45 am]

BILLING CODE 4410-09-P